DEPARTMENT OF HEALTH AND HUMAN SERVICES

Centers for Disease Control and Prevention

[60Day-22-22FC; Docket No. CDC-2022-0061]

Proposed Data Collection Submitted for Public Comment and Recommendations

AGENCY: Centers for Disease Control and Prevention (CDC), Department of Health and Human Services (HHS).

ACTION: Notice with comment period.

SUMMARY: The Centers for Disease Control and Prevention (CDC), located within the Department of Health and Human Services (HHS), as part of its continuing effort to reduce public burden and maximize the utility of government information, invites the general public and other federal agencies the opportunity to comment on a proposed information collection, as required by the Paperwork Reduction Act of 1995. This notice invites comment on a proposed information collection project titled Assessing the Capacity of Vector Management Programs in the United States to Provide Comprehensive Community-level Tick Management Services. Data will be collected from vector management programs in the United States to determine their capacity and interest in providing comprehensive community-level tick management services.

DATES: CDC must receive written comments on or before July 12, 2022.

ADDRESSES: You may submit comments, identified by Docket No. CDC-2022-0061, by either of the following methods:

• Federal eRulemaking Portal: www.regulations.gov. Follow the instructions for submitting comments.

• Mail: Jeffrey M. Zirger, Information Collection Review Office, Centers for Disease Control and Prevention, 1600 Clifton Road NE, MS H21-8, Atlanta, GA 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, GA 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Assessing the Capacity of Vector Management Programs in the United States to Provide Comprehensive Community-level Tick Management Services—New—National Center for Emerging and Zoonotic Infectious Diseases (NCEZID), Centers for Disease Control and Prevention (CDC).

Background and Brief Description

A number of previously conducted surveys have focused on private pest management firms or agencies in a single state. The overall capacity for publicly-funded comprehensive tick management in the regions of interest remains poorly understood, especially in high incidence areas. Data collected by engaging vector management program staff will inform the development of sustainable and effective community-level tick management programs by assessing the feasibility of program components, the resources necessary to add new functions to existing vector management programs, and the expected costs associated with delivering comprehensive tick management services. This survey will identify robust vector management programs with which CDC can partner to refine guidance for the development of comprehensive community-level tick management programs, which can be adapted to specific regional ecologies and communities. Ultimately, this survey is an important first step toward developing a community of practice for publicly-funded, comprehensive tick management programs in the United States. The survey will lay the groundwork for efforts to establish local entities capable of first evaluating the efficacy of tick control methods, and then broadly deploying those measures proven effective and acceptable in order to: (a) Reduce the number of infected ticks in the environment, and (b) reduce human bites by infected ticks.

The primary goals of this project are two-fold: (1) Assess the current tick management capacity and knowledge in vector management programs that receive public funding in the Upper Midwest, mid-Atlantic, Northeast, and Pacific coast states; and (2) determine the services that vector management program staff believe should be part of comprehensive tick management programs if they are developed in the future. We also hope to identify barriers to the development of comprehensive tick management programs and ways CDC can begin to address gaps.

CDC requests OMB approval for an estimated 63 annual burden hours. There is no cost to respondents other than their time to participate.

Estimated Annualized Burden Hours
Type of respondents | Form name | Number of respondents | Number of responses per respondent | Average burden per response (in hours) | Total burden (in hours)
Public Vector Control Operators | Comprehensive Community-level Tick Management Services Survey | 200 | 1 | 15/60 | 50
Private Vector Control Operators | Comprehensive Community-level Tick Management Services Survey | 100 | 1 | 8/60 | 13
Total |  |  |  |  | 63

Jeffrey M. Zirger,
Lead, Information Collection Review Office, Office of Scientific Integrity, Office of Science, Centers for Disease Control and Prevention.

[FR Doc. 2022-10376 Filed 5-12-22; 8:45 am]

BILLING CODE 4163-18-P